DEPARTMENT OF COMMERCE

International Trade Administration

[C-570-926]

Sodium Nitrite from the People's Republic of China: Postponement of Preliminary Determination in the Countervailing Duty Investigation

AGENCY: Import Administration, International Trade Administration, Department of Commerce.

EFFECTIVE DATE: January 14, 2008.

FOR FURTHER INFORMATION CONTACT: Sean Carey or Gene Calvert, AD/CVD Operations, Office 6, Import Administration, International Trade Administration, U.S. Department of Commerce, 14th Street and Constitution Avenue, N.W., Washington, D.C. 20230; telephone: (202) 482-3964 and (202) 482-3586, respectively.

SUPPLEMENTARY INFORMATION:

Background

On November 28, 2007, the Department of Commerce (the Department) initiated the countervailing duty investigation of sodium nitrite from the People's Republic of China (PRC). See Sodium Nitrite from the People's Republic of China: Initiation of Countervailing Duty Investigation, 72 FR 68568 (December 5, 2007). Currently the preliminary determination is due no later than February 1, 2008.

Postponement of Due Date for Preliminary Determination

On January 4, 2008, petitioner submitted a letter requesting that the Department postpone the preliminary determination of the countervailing duty investigation of sodium nitrite from the PRC. Under section 703(c)(1)(A) of the Tariff Act of 1930, as amended (the Act), the Department may extend the deadline for the preliminary determination in a countervailing duty investigation until not later than the 130th day after the date on which the administering authority initiates an investigation if the petitioner makes a timely request for an extension of the period within which the determination must be made under section 703(b) of the Act. Pursuant to section 351.205(e) of the Department's regulations, the petitioner's request for postponement of the preliminary determination was made 25 days or more before the scheduled date of the preliminary determination. Accordingly, we are extending the due date for the preliminary determination by 65 days to no later than April 6, 2008. Because April 6, 2008 is a Sunday, the Department will issue the preliminary determination no later than April 7, 2008.

This notice is issued and published pursuant to section 703(c)(2) of the Act.

Dated: January 8, 2008.
David M. Spooner,
Assistant Secretary for Import Administration.

[FR Doc. E8-455 Filed 1-11-08; 8:45 am]

BILLING CODE 3510-DS-S